DEPARTMENT OF COMMERCE

National Oceanic and Atmospheric Administration

50 CFR Part 660

[Docket No. 071003556-81194-02]

RIN 0648-AW08

Fisheries Off West Coast States; Pacific Coast Groundfish Fishery; Amendment 15; Correction

AGENCY: National Marine Fisheries Service (NMFS), National Oceanic and Atmospheric Administration (NOAA), Commerce.

ACTION: Final rule; correction.

SUMMARY: NMFS is correcting a final regulation that appeared in the Federal Register on March 10, 2009. The document contained the final regulations for a vessel license limitation program for the non-tribal sectors of the Pacific whiting fishery. The document was published with some errors, including errors in the final date of the application period, the final date of appeals period, and the effective date for the Pacific whiting vessel license requirement. This document corrects those errors.

DATES: These corrections are effective on April 9, 2009.

FOR FURTHER INFORMATION CONTACT: Becky Renko, phone: 206-526-6110, fax: 206-526-6736, or e-mail: becky.renko@noaa.gov, or for permitting information, Kevin Ford, phone: 206-526-6115, fax: 206-526-6736, or e-mail: kevin.ford@noaa.gov.

SUPPLEMENTARY INFORMATION: In FR Doc. E9-5066, appearing on page 10189 in the Federal Register on March 10, 2009, the following corrections are made:

Corrections to Preamble

1. On page 10190, in the second column, under the response to Comment 4, the application deadline is corrected to read May 11, 2009.

2. On page 10190, in the second column, under the response to Comment 5, the application deadline announced is corrected to read May 11, 2009.

Corrections to Regulatory Text

§ 660.306 [Corrected]

On page 10192, in the second column, in § 660.306 Prohibitions, in paragraph (f)(1), the date of April 9, 2009, is corrected to read May 11, 2009.

§ 660.333 [Corrected]

2. On page 10192, in the third column, in § 660.333 Limited entry fishery eligibility and registration, in paragraph (a) the date of April 9, 2009, is corrected to read May 11, 2009.

§ 660.336 [Corrected]

3. On page 10193, in the first column, in § 660.336 Pacific whiting vessel licenses, in paragraph (a)(1) introductory text, the date of April 9, 2009, is corrected to read May 11, 2009.

4. On page 10193, in the third column, in § 660.336 Pacific whiting vessel licenses, in paragraph (a)(3)(i), the date of April 9, 2009, is corrected to read May 11, 2009 wherever it appears.

5. On page 10194, in the first column, in § 660.336 Pacific whiting vessel licenses, in paragraph (a)(3)(ii), the date of April 9, 2009, is corrected to read May 11, 2009.

6. On page 10194, in the first column, in § 660.336 Pacific whiting vessel licenses, in paragraph (a)(3)(iii), the date of May 11, 2009, is corrected to read June 15, 2009.

§ 660.373 [Corrected]

7. On page 10194, in the third column, § 660.373 Pacific whiting (whiting) fishery management, paragraph (a) is revised to read as follows:

(a) Sectors. In order for a vessel to participate in a particular whiting fishery sector after May 11, 2009, that vessel must be registered for use with a sector-specific Pacific whiting vessel license under § 660.336.

(1) The catcher/processor sector is composed of catcher/processors, which are vessels that harvest and process whiting during a calendar year.

(2) The mothership sector is composed of motherships and catcher vessels that harvest whiting for delivery to motherships. Motherships are vessels that process, but do not harvest, whiting during a calendar year.

(3) The shore-based sector is composed of vessels that harvest whiting for delivery to Pacific whiting shoreside first receivers. Notwithstanding the other provisions of 50 CFR Part 660, subpart G, a vessel that is 75 feet or less LOA that harvests whiting and, in addition to heading and gutting, cuts the tail off and freezes the whiting, is not considered to be a catcher/processor nor is it considered to be processing fish. Such a vessel is considered a participant in the shorebased whiting sector, and is subject to regulations and allocations for that sector.

* * * * *

Dated: March 16, 2009.
James W. Balsiger,
Acting Assistant Administrator For Fisheries, National Marine Fisheries Service.

[FR Doc. E9-6139 Filed 3-18-09; 4:15 pm]

BILLING CODE 3510-22-S